DEPARTMENT OF COMMERCE

International Trade Administration

[A-570-866]

Folding Gift Boxes from the People's Republic of China: Continuation of Antidumping Duty Order

AGENCY: Import Administration, International Trade Administration, Department of Commerce.

SUMMARY: As a result of the determinations by the Department of Commerce (“Department”) and the International Trade Commission (“ITC”) that revocation of the existing antidumping duty order on folding gift boxes from the People's Republic of China (“PRC”) would likely lead to continuation or recurrence of dumping and material injury to an industry in the United States, the Department is publishing this notice of continuation of the antidumping duty (“AD”) order.

EFFECTIVE DATE: May 18, 2007.

FOR FURTHER INFORMATION CONTACT: Juanita H. Chen at 202-482-1904; AD/CVD Operations, Import Administration, International Trade Administration, U.S. Department of Commerce, 14th Street and Constitution Avenue, NW, Washington, DC 20230.

SUPPLEMENTARY INFORMATION:

Background

On December 1, 2006, the Department initiated a sunset review of the AD order on folding gift boxes from the PRC, pursuant to section 751(c) of the Tariff Act of 1930, as amended (“Act”). See Initiation of Five-year (“Sunset”) Reviews, 71 FR 69545 (December 1, 2006) (“Sunset Initiation”); see also Notice of Antidumping Duty Order: Certain Folding Gift Boxes From the People's Republic of China, 67 FR 864 (January 8, 2002) (“Order”). As a result of its review, the Department found that revocation of the AD order would likely lead to continuation or recurrence of dumping and notified the ITC of the margins likely to prevail were the order revoked.¹ On April 19, 2007, the ITC determined, pursuant to section 751(c) of the Act, that revocation of the AD order on folding gift boxes from the PRC would likely lead to continuation or recurrence of material injury to an industry in the United States within a reasonably foreseeable time.²

¹ See Folding Gift Boxes from the People's Republic of China: Final Results of the Expedited Sunset Review of the Antidumping Duty Order, 72 FR 16765 (April 5, 2007).

² See Folding Gift Boxes From China, 72 FR 25777 (May 7, 2007), and ITC Publication 3917, Investigation No. 731-TA-921 (Review) (April 2007).

Scope of the Order

The products covered by the AD order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the order excludes gift boxes manufactured from paper or paperboard of a thickness of more than 0.8 millimeters, corrugated paperboard, or paper mache. The scope of the order also excludes those gift boxes for which no side of the box, when assembled, is at least nine inches in length.

Folding gift boxes included in the scope of the order are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope of the order excludes folding gift boxes that have a retailer's name, logo, trademark or similar company information printed prominently on the box's top exterior (such folding gift boxes are often known as “not-for-resale” gift boxes or “give-away” gift boxes and may be provided by department and specialty stores at no charge to their retail customers). The scope of the order also excludes folding gift boxes where both the outside of the box is a single color and the box is not packaged in shrink-wrap, cellophane, other resin-based packaging films, or paperboard.

Imports of the subject merchandise are classified under Harmonized Tariff Schedule of the United States (“HTSUS”) subheadings 4819.20.0040 and 4819.50.4060. These subheadings also cover products that are outside the scope of the order. Furthermore, although the HTSUS subheadings are provided for convenience and customs purposes, our written description of the scope of the order is dispositive.

Continuation of Order

As a result of the determinations by the Department and the ITC that revocation of the AD order on folding gift boxes from the PRC would likely lead to continuation or recurrence of dumping and material injury to an industry in the United States, pursuant to section 751(d)(2) of the Act, the Department hereby orders the continuation of the AD order on folding gift boxes from the PRC. U.S. Customs and Border Protection will continue to collect antidumping duty cash deposits at the rates in effect at the time of entry for all imports of subject merchandise. This review covers imports from all manufacturers and exporters of folding gift boxes from the PRC.

The effective date of continuation of this AD order will be the date of publication in the Federal Register of this Continuation Notice. Pursuant to section 751(c)(2) of the Act, the Department intends to initiate the next five-year review of this order not later than April 2012.

This five-year (“sunset”) review and notice are in accordance with section 751(c) of the Act and published pursuant to section 777(i)(1) of the Act.

Dated: May 11, 2007.
David M. Spooner,
Assistant Secretary for Import Administration.

[FR Doc. E7-9627 Filed 5-17-07; 8:45 am]

BILLING CODE 3510-DS-S